AGENCY FOR INTERNATIONAL DEVELOPMENT

22 CFR Part 226

RIN 0412-AA71

Partner Vetting in USAID Assistance; Correction

AGENCY: Agency for International Development.

ACTION: Notice of proposed rulemaking; correction.

SUMMARY: USAID is allowing an additional 15 days to provide comments on its proposed Partner Vetting in USAID Assistance Rule. There was a technical error in the email address, provided in the Notice of Proposed Rulemaking that was published in the Federal Register on August 29, 2013, for receipt of public comments on the proposed rule. The technical error in the email address prevented comments that were submitted through that email address from being reviewable by USAID. As a result, USAID, with the approval of the Office of Management and Budget, is issuing a correction notice allowing public comment on the proposed rulemaking for an additional 15 days. The proposed rulemaking is unchanged from the original publication in August 2013 and amends the regulation governing the administration of USAID-funded assistance awards to implement a Partner Vetting System (PVS).

FOR FURTHER INFORMATION CONTACT: George Higginbotham, Telephone: 202-712-1948; Email: ghigginbotham@usaid.gov.

Correction

In the Federal Register of August 29, 2013, in FR Doc. 2013-20846, on page 53375, in the second column, correct the email address to which comments should be submitted. Electronic comments should be sent to the following email: m.rulemaking@usaid.gov. Comments must be submitted on or before December 6, 2013.

Dated: November 8, 2013.
Angelique M. Crumbly,
Agency Regulatory Official, U.S. Agency for International Development.

[FR Doc. 2013-27921 Filed 11-20-13; 8:45 am]

BILLING CODE P